DEPARTMENT OF DEFENSE

Office of the Secretary

Meeting of the Defense Department Advisory Committee on Women in the Services

AGENCY: Department of Defense.

ACTION: Notice.

SUMMARY: Pursuant to Section 10(a), Public Law 92-463, as amended, notice is hereby given of a forthcoming meeting of the Defense Department Advisory Committee on Women in the Services (DACOWITS). The purpose of the Committee meeting is to finalize the annual report. The meeting is open to the public, subject to the availability of space.

DATES: November 20 and 21, 2003, 8:30 a.m.-5 p.m.

Location: Double Tree Hotel Crystal City National Airport, 300 Army Navy Drive, Arlington, VA 22202.

FOR FURTHER INFORMATION CONTACT: Lieutenant Commander Shannon Thaeler, USN, DACOWITS, 4000 Defense Pentagon, Room 3D769, Washington, DC 20301-4000. Telephone (703) 697-2122. Fax (703) 614-6233.

SUPPLEMENTARY INFORMATION: Interested persons may submit a written statement for consideration by the Committee and make an oral presentation of such. Persons desiring to make an oral presentation or submit a written statement to the Committee must notify the point of contact listed above no later than 5 p.m., November 18, 2003. Oral presentation by members of the public will be permitted only on Thursday, November 20, 2003, from 4:45 p.m. to 5 p.m. before the full Committee. Presentations will be limited to two minutes. Number of oral presentations to be made will depend on the number of requests received from members of the public. Each person desiring to make an oral presentation must provide the point of contact listed above with one (1) copy of the presentation by 5 p.m., November 18, 2003 and bring 35 copies of any material that is intended for distribution at the meeting. Persons submitting a written statement must submit 35 copies of the statement to the DACOWITS staff by 5 p.m. on November 18, 2003.

Meeting Agenda:

Thursday, November 20, 2003

Welcome & Administrative Remarks

Committee Time—Finalizing Annual Report

Reserve Utilization Brief

Female Officer Retention Briefs

Committee Time—Topics for FY04

Public Forum (4:45 p.m.-5 p.m.)

Friday, November 21, 2003

Committee Time—Topics for FY04

Committee Time—Process Review/Lessons Learned

Note: Exact order may vary.

Dated: November 7, 2003.
Patricia L. Toppings,
Alternate OSD Federal Register Liaison Officer, Department of Defense.

[FR Doc. 03-28698 Filed 11-17-03; 8:45 am]

BILLING CODE 5001-06-M